NEIGHBORHOOD REINVESTMENT CORPORATION

Sunshine Act Meetings; Regular Board of Directors Meeting

TIME & DATE: 3:00 p.m., Wednesday, September 4, 2019.

PLACE: NeighborWorks America—Gramlich Boardroom, 999 North Capitol Street NE, Washington, DC 20002.

STATUS: Open (with the exception of Executive Session).

MATTERS TO BE CONSIDERED: The General Counsel of the Corporation has certified that in his opinion, one or more of the exemptions set forth in 5 U.S.C. 552 (b)(2) and (4) permit closure of the following portion(s) of this meeting:

• Report From CEO

• Board and Officer Elections

Agenda

I. Call to Order

II. Approval of Minutes

III. Executive Session: Report from CEO

IV. Action Item Recognition of Service for Senior Deputy Controller Grovetta Gardineer

V. Action Item FY2020 Preliminary Budget

VI. Action Item Investment Policy Update

VII. Action Item Lapse Plan Policy

VIII. Discussion Item Corporate Goals for FY2020

IX. Discussion Item FY2021 Budget Submission Process

X. Discussion Item Non-Core Private Funds

XI. Discussion Item Western Region—Denver Office Lease Renewal

XII. Discussion Item 40th Anniversary Event

XIII. Management Program Background and Updates

XIV. Adjournment

CONTACT PERSON FOR MORE INFORMATION: Rutledge Simmons, EVP & General Counsel/Secretary, (202) 760-4105; Rsimmons@nw.org.

Rutledge Simmons,
EVP & General Counsel/Corporate Secretary.

[FR Doc. 2019-18039 Filed 8-16-19; 4:15 pm]

BILLING CODE 7570-02-P